DEPARTMENT OF ENERGY

Federal Energy Regulatory Commission

[Project No. 12551-001]

Salvatore and Michelle Shifrin; Notice of Application Accepted for Filing and Soliciting Motions To Intervene and Protests

May 9, 2008.

Take notice that the following hydroelectric application has been filed with the Commission and is available for public inspection.

a. Type of Application: Exemption From Licensing.

b. Project No.: P-12551-001.

c. Date Filed: January 25, 2008.

d. Applicant: Salvatore and Michelle Shifrin.

e. Name of Project: Mansfield Hollow Hydro Power Project.

f. Location: On the Natchaug River in Tolland County, Connecticut. The project would occupy United States land managed by the U.S. Army Corps of Engineers.

g. Filed Pursuant to: Public Utilities Regulatory Policies Act of 1978, 16 U.S.C. 2705, 2708.

h. Applicant Contact: Salvatore or Michelle Shifrin, 78 Bricktop Road, Windham, CT 06280, (860) 423-7709.

i. FERC Contact: Tom Dean, (202) 502-6041.

j. Deadline for filing motions to intervene and protests: 60 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “eFiling” link.

k. This application has been accepted for filing, but is not ready for environmental analysis at this time.

l. Description of Project: The Mansfield Hollow Hydro Power Project would consist of: (1) The existing 80-foot-long, 10-foot-high Kirby Mill Dam; (2) the existing 1.6-acre reservoir; (3) the existing headgate structure; (4) the existing 12-foot-wide, 8-foot-high, 330-foot-long head race channel; (5) a new powerhouse containing five generating units with a total installed capacity of 500 kilowatts; (6) the existing 5-foot-wide, 7-foot-high, 100-foot-long conduit and 75-foot-long open tailrace; and (7) appurtenant facilities. The project would have an average annual generation of about 2,500 megawatt-hours.

In addition to a new powerhouse, project reconstruction would consist of: (1) A new 12-foot-wide, 8-foot-high, 330-foot-long head race channel; (2) a new 20-foot-wide, 8-foot-high, 20-foot-long box culvert connected to a new 25-foot-wide, 4-foot-high, 153-foot-long open channel tail race; and (3) a new 275-foot-long transmission line.

m. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intents to give at least 30 days for entities to comment on the EA, and will take into consideration all comments received on the EA before final action is taken on the license application.

Notice of application ready for environmental analysis: September 2008.

Notice of availability of the EA: March 2009.

Kimberly D. Bose,
Secretary.

[FR Doc. E8-11026 Filed 5-15-08; 8:45 am]

BILLING CODE 6717-01-P